DEPARTMENT OF AGRICULTURE

Farm Service Agency

7 CFR Parts 750, 760, 784, and 795

RIN 0560-AI76

Removal of Obsolete Regulations

AGENCY: Farm Service Agency (FSA), Department of Agriculture.

ACTION: Final rule.

SUMMARY: FSA is in the process of reviewing all regulations within its purview to reduce regulatory burdens and costs. Pursuant to this review, FSA has identified the following obsolete, unnecessary, and outdated provisions. FSA is removing these provisions to streamline and clarify the dictates of FSA regulations. The changes in this rule will have no impact on past or present FSA customers.

DATES: Effective Date: This rule is effective May 29, 2025.

FOR FURTHER INFORMATION CONTACT: Sherrie Grimm; telephone: (202) 401-0062; email: Sherrie.Grimm@usda.gov. Individuals with disabilities who require alternative means for communication should contact the USDA Target Center at (202) 720-2600 (voice and text telephone (TTY mode)) or dial 711 for Telecommunications Relay Service (both voice and text telephone users can initiate this call from any telephone).

SUPPLEMENTARY INFORMATION:

Background

The President's Executive Order 14219 of February 19, 2025, Ensuring Lawful Governance and Implementing the President's “Department of Government Efficiency” Deregulatory Initiative, 90 FR 10583, and subsequent implementing memorandum directed all agency heads to review regulations within their purview and rescind those that are, among other things, unlawful or unnecessary. FSA has undertaken such a review and is accordingly rescinding the following provisions from title 7 of the Code of Federal Regulations.

Regulatory Certifications

Executive Orders

This document does not meet the criteria for a significant regulatory action as specified by Executive Order (E.O.) 12866. This action also has no federalism or tribal implications and will not impose substantial unreimbursed compliance costs on States, local governments, or Indian Tribal governments. Therefore, impact statements are not required under E.O. 13132 or 13175.

Environmental Evaluation

This rule will have no significant effect on the human environment; therefore, neither an environmental assessment nor impact statement is required.

Paperwork Reduction Act

This rule does not contain reporting or recordkeeping requirements subject to the Paperwork Reduction Act.

Explanation of Provisions

The regulations removed are:

Soil Bank (7 CFR Part 750)

The regulations at 7 CFR part 750, published at 21 FR 6289 and redesignated by 26 FR 5788, are no longer carried in the CFR. Thus, for the reasons explained in the preamble, FSA is eliminating this part to streamline title 7.

Indemnity Payment Programs (7 CFR Part 760)

For the reasons described in the preamble, FSA is eliminating the regulations for the Tree Assistance Program (TAP) and the Supplemental Revenue Assistance Payments Program (SURE) codified at 7 CFR part 760 subpart F and subpart G, respectively.

The TAP regulations in 760 subpart F are obsolete as the operative assistance program regulations have been moved to 7 CFR part 1416 subpart E. The regulations in 760 subpart G are obsolete as the time to claim eligible losses under the SURE has passed.

2004 Ewe Lamb Replacement and Retention Payment Program (7 CFR Part 784)

For the reasons described in the preamble, FSA is eliminating the regulations codified at 7 CFR part 784 related to the 2004 Ewe Lamb Replacement and Retention Payment Program. This 2004 program, authorized by Section 32 of the Act of August 24, 1935, as amended, is no longer available as all funds have been used. The regulations at 7 CFR part 784 implementing the program are therefore obsolete and unnecessary.

Payment Limitations (7 CFR Part 795)

For the purposes outlined in the preamble, FSA is rescinding the payment limitations codified at 7 CFR Part 795.

Part 795 formerly described the payment limitations applicable to certain FSA programs. However, the current payment limitations are set forth at 7 CFR part 1400. The regulations in part 795 are accordingly obsolete and unnecessary. Since part 795 is the only part remaining in subchapter E, FSA is also removing and reserving that subchapter.

List of Subjects

7 CFR Part 750

Grant programs—agriculture, Grant programs—natural resources, Soil conservation, Water resources, Wildlife.

7 CFR Part 760

Acreage allotments, Dairy products, Indemnity payments, Pesticides and pests, Reporting and recordkeeping requirements.

7 CFR Part 784

Administrative practice and procedure, Agriculture, Livestock, Meat and meat products, Price support programs, Reporting and Recordkeeping Requirements.

7 CFR Part 795

Price support programs, Reporting and recordkeeping requirements.

For the reasons stated in the preamble, and under the authority of 5 U.S.C. 553 and as set forth below, FSA amends 7 CFR chapter VII as follows:

Title 7—AGRICULTURE

Part 750—[Removed and Reserved]

1. Remove and reserve part 750.

Part 760—INDEMNITY PAYMENT PROGRAMS

2. The authority citation for part 760 continues to read as follows:

Authority: 7 U.S.C. 4501 and 1531; 16 U.S.C. 3801, note; 19 U.S.C. 2497; Title III, Pub. L. 109-234, 120 Stat. 474; Title IX, Pub. L. 110-28, 121 Stat. 211; Sec. 748, Pub. L. 111-80, 123 Stat. 2131; Title I, Pub. L. 115-123, 132 Stat. 65; Title I, Pub. L. 116-20, 133 Stat. 871; Division B, Title VII, Pub. L. 116-94, 133 Stat. 2658; Title I, Pub. L. 117-43, 135 Stat. 356; and Division N, Title I, Pub. L. 117-328.

Subparts F through G—[Removed and Reserved]

3. Remove and reserve subparts F and G.

Part 784—[Removed and Reserved]

4. Remove and reserve part 784.

Subchapter E—[Removed and Reserved]

5. Remove and reserve subchapter E.

William Beam,
Administrator, Farm Service Agency.

[FR Doc. 2025-09617 Filed 5-28-25; 8:45 am]

BILLING CODE 3411-E2-P